LEGAL SERVICES CORPORATION

Sunshine Act Meetings of the Board of Directors and Four of the Board's Committees

Times And Dates: The Legal Services Corporation Board of Directors and four of its Committees will meet on July 27-28, 2007 in the order set forth in the following schedule, with each meeting commencing shortly after adjournment of the immediately preceding meeting.

Public Observation By Telephone: Members of the public that wish to listen to the open portions of the meetings live may do so by following the telephone call-in directions given below. You are asked to keep your telephone muted to eliminate background noises. Comments from the public may from time to time be solicited by the presiding Chairman.

Call-in Directions for Open Sessions

Friday, July 27, 2007

• Call toll-free number 1-888-942-8391;

• When prompted, enter the following numeric pass code: 46256;

• When connected to the call, please MUTE your telephone immediately.

Saturday, July 28, 2007

• Call toll-free number 1-877-915-2768;

• When prompted, enter the following numeric pass code: 14765;

• When connected to the call, please MUTE your telephone immediately.

Meeting Schedule

| Time ¹
Friday, July 27, 2007:
1. Provision for the Delivery of Legal Services Committee (Provisions Committee) | 1:30 p.m.
2. Board of Directors ² |
3. Annual Performance Reviews Committee (Performance Reviews Committee) |
Saturday, July 28, 2007
1. Operations & Regulations Committee | 8:30 a.m.
2. Finance Committee ³ |
3. Board of Directors |
¹ Please note that all times in this notice are Central Time.
² Please note that portions of the Board of Directors' meeting will be held on Friday and Saturday. This notice reflects this bifurcation.
³ It is expected that the Finance Committee will adjourn for lunch and will reconvene at approximately 1:15 p.m. Depending on the length of the preceding meetings, however, it is possible that the Committee's meeting could begin earlier or later than 1:15 p.m.

Location: The Sheraton Hotel, 623 Union Street, Nashville, Tennessee.

Status of Meetings: Open, except as noted below.

• Status: July 27, 2007 Performance Reviews Committee Meeting—Open, except that a portion of the meeting may be closed to the public pursuant to a vote of the Board of Directors authorizing the Committee to meet in executive session to consider and act on a recommendation to make to the full Board on the annual performance review of the LSC Inspector General for calendar year 2006. The closing will be authorized by the relevant provision of the Government in the Sunshine Act, 5 U.S.C. 552b(c)(6), and the corresponding provision of the Legal Services Corporation's implementing regulation, 45 CFR 1622.5(e). A verbatim written transcript of the session will be made. The transcript of any portions of the closed session falling within the relevant provision(s) of the Government in the Sunshine Act, 5 U.S.C. 552b(c)(6), and the corresponding provision of LSC's implementing regulation, 45 CFR 1622.5(e), will not be available for public inspection. The transcript of any portions not falling within the cited provisions will be available for public inspection. A copy of the General Counsel's Certification that the closing is authorized by law will be available upon request.

• Status: July 27 and 28, 2007 Board of Directors Meeting—Open, except that portions of the meeting of the Board of Directors may be closed to the public pursuant to a vote of the Board of Directors to hold executive sessions.

• At the closed session on Friday, July 27, 2007, the Board will consider and may act on its response to the U.S. Government Accountability Office's Draft Report on LSC Governance and Accountability. A verbatim written transcript of the session will be made. The transcript of any portions of the closed session falling within the relevant provision of the Government in the Sunshine Act, 5 U.S.C. 552b(c)(9)(B), and the corresponding provision of the Legal Services Corporation's implementing regulation, 45 CFR 1622.5(g), will not be available for public inspection. The transcript of any portions not falling within the cited provisions will be available for public inspection. A copy of the General Counsel's Certifications that the closings are authorized by law will be available upon request.

• At the closed session on Saturday, July 28, 2007, the Board will consider and may act on the appointment of an Acting Inspector General, consider and may act on the General Counsel's report on litigation to which the Corporation is or may become a party, and will be briefed (a) By staff on the relevance of Sarbanes-Oxley to governance of the Legal Services Corporation, and (b) by the Inspector General on activities of the Office of Inspector General.⁴ A verbatim written transcript of the session will be made. Closing will be based on the relevant provisions of the Government in the Sunshine Act, 5 U.S.C. 552b(c)(6) & (c)(10), and the corresponding provisions of the Legal Services Corporation's implementing regulation, 45 CFR 1622.5(e) & (h). The transcript of any portions of the closed session not falling within one or more of these provisions will be available for public inspection. A copy of the General Counsel's Certification that the closing is authorized by law will be available upon request.

⁴ Any portion of the closed session consisting solely of staff briefings does not fall within the Sunshine Act's definition of the term “meeting” and, therefore, the requirements of the Sunshine Act do not apply to such portion of the closed session. 5 U.S.C. 552(b)(a)(2) and (b). See also 45 CFR 1622.2 and 1622.3.

Matters To Be Considered:

Friday, July 27, 2007

Provision for the Delivery of Legal Services Committee

Agenda

Open Session

1. Approval of agenda.

2. Approval of the Committee's meeting minutes of April 27, 2007.

3. Staff Update on activities implementing the LSC Private Attorney Involvement Action Plan—Help Close the Justice Gap: Unleash the Power of Pro Bono.

4. Panel Presentation on Recruitment and Retention issues in LSC programs, focusing on examples of Executive Director leadership transitions.

Presenters:

• César Torres, Executive Director, and Pat McIntyre, former Executive Director, Northwest Justice Project, Seattle, Washington.

• Neil McBride, Interim Executive Director, and Ashley Wiltshire, former Executive Director, Legal Aid Society of Middle Tennessee and the Cumberlands, Nashville, Tennessee.

• Jessie Nicholson, Executive Director, Bruce Beneke, former Executive Director, and Terry Newby, member of the Board, Southern Minnesota Regional Legal Services, St. Paul, Minnesota.

5. Public comment.

6. Consider and act on other business.

7. Consider and act on adjournment of meeting.

Board of Directors

Agenda

Open Session

1. Approval of agenda.

2. Consider and act on whether to authorize an executive session of the Performance Reviews Committee on July 27, 2007, to consider and act on a recommendation to make to the full Board on a performance review of LSC's Inspector General.

3. Consider and act on whether to authorize an executive session of the Board to address items listed below under Closed Session.

Closed Session

4. Consider and act on response to the U.S. Government Accountability Office's Draft Report on LSC Governance and Accountability.

5. Consider and act on motion to adjourn meeting.

Performance Reviews Committee

Agenda

Open Session

1. Approval of Agenda.

2. Consider and act on whether to go into closed session for agenda item # 3.

Closed Session

3. Consider and act on the recommendation to make to the full Board on the annual performance review of the LSC Inspector General.

Open Session

4. Consider and act on other business.

5.Consider and act on adjournment of meeting.

Saturday, July 28, 2007

Operations & Regulations Committee

Agenda

Open Session

1. Approval of agenda.

2. Approval of the minutes of the Committee's April 27, 2007 meeting.

3. Consider and act on initiation of rulemaking to adopt “lesser sanctions”

a. Staff report.

b. OIG comment.

c. Public comment.

4. Consider and act on initiation of rulemaking to revise Part 1626 relative to eligibility of citizens of the Republic of the Marshall Islands, the Federated States of Micronesia and the Republic of Palau.

a. Staff report.

b. OIG comment.

c. Public comment.

5. Consider and act on adoption of 2008 Grant Assurances

a. Staff report.

b. OIG comment.

c. Public comment.

6. Presentation by the OIG on its oversight of the grantees' Independent Public Accountants.

7. Consider and act on locality pay issues.

8. Discussion of an LSC corporate compliance program.

9. Staff report on dormant class actions.

10. Consider and act on other business.

11. Other public comment.

12. Consider and act on adjournment of meeting.

Finance Committee

Agenda

Open Session

1. Approval of agenda.

2. Approval of the minutes of the Committee's meeting of April 28, 2007.

3. Presentation on FY 2006 audit and report on delay in completion of the audit.

• Presentation by Kirt West and Dutch Merryman.

4. Consider and act on a revised Finance Committee role in LSC's annual audit.

5. Report on the appropriate financial statement standards for LSC.

• Presentation by Dutch Merryman and David Richardson.

6. Response to audit management recommendations.

• Modifications to the fixed asset inventory and control system.

• Certification of users of accounting system.

• Documentation of control procedures.

• Presentation by David Richardson.

7. Consider and act on final response to recommendations from the OIG Report on Certain Fiscal Practices.

• Presentation by Charles Jeffress.

8. Consider and act on FY 2007 Revised Consolidated Operating Budget.

• Presentation by David Richardson.

9. Presentation on LSC's Financial Reports for the Third Quarter Ending June 30, 2007 and on projected operating expenditures for the remainder of the fiscal year.

• Presentation by David Richardson.

• Comments by Charles Jeffress.

10. Discussion of format for the provision of financial information to the Committee.

11. Report on the status of the FY 2008 Appropriations process.

• Report by John Constance.

12. Consider and act on adoption of FY 2008 Temporary Operating Authority effective October 1, 2007.

13. Report on Equal Justice Magazine expenses and future plans.

• Report by John Constance.

14. Discussion regarding planning for FY 2009 budget.

15. Consider and act on annual September meeting of Finance Committee.

16. Consider and act on other business.

17. Public comment.

18. Consider and act on adjournment of meeting.

Board of Directors

Agenda

Open Session

1. Approval of agenda.

2. Approval of minutes of the Board's meeting of April 28, 2007.

3. Approval of minutes of the Board's Telephonic meeting of May 29, 2007.

4. Approval of minutes of the Board's Telephonic meeting of June 25, 2007.

5. Approval of minutes of the Executive Session of the Board's meeting of April 28, 2007.

6. Consider and act on a process to be used for selection of a new Inspector General for LSC.

7. Chairman's Report.

8. Members' Reports.

9. President's Report.

10. Inspector General's Report.

11. Consider and act on the report of the Provision for the Delivery of Legal Services Committee.

12. Consider and act on the report of the Finance Committee.

13. Consider and act on the report of the Operations & Regulations Committee.

14. Consider and act on the report of the Performance Reviews Committee.

15. Consider and act on proposed protocol for processing Board Members' document requests.

16. Consider and act on proposed locations for Board meetings in calendar year 2009.

17. Consider and act on other business.

18. Public comment.

19. Consider and act on whether to authorize an executive session of the Board to address items listed below under Closed Session.

Closed Session

20. Consider and act on appointment of an Acting Inspector General for LSC.

21. Consider and act on General Counsel's report on potential and pending litigation involving LSC.

22. Staff briefing on the relevance of Sarbanes-Oxley to LSC governance.

23. IG report to the Board.

24. Consider and act on motion to adjourn meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: July 19, 2007.
Victor M. Fortuno,
Vice President & General Counsel.

[FR Doc. 07-3603 Filed 7-19-07; 1:37 pm]

BILLING CODE 7050-01-P